INTERNATIONAL TRADE COMMISSION

[Investigation Nos. 731-TA-1535-1536 (Final)]

Methionine From Japan and Spain; Supplemental Schedule for the Final Phase of Anti-Dumping Duty Investigations

AGENCY: United States International Trade Commission.

ACTION: Notice.

DATES: July 23, 2021.

FOR FURTHER INFORMATION CONTACT: Calvin Chang ((202) 205-3062), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective February 24, 2021, the Commission established a general schedule for the conduct of the final phase of its investigations on methionine from France, Japan, and Spain ¹ following a preliminary determination by the U.S. Department of Commerce (“Commerce”) that imports of methionine from France were being sold at less than fair value (“LTFV”).² Notice of the scheduling of the final phase of the Commission's investigations and of a public hearing to be held in connection therewith was given by posting copies of the notice in the Office of the Secretary, U.S. International Trade Commission, Washington, DC, and by publishing the notice in the Federal Register of March 9, 2021 (86 FR 13585). In light of the restrictions on access to the Commission building due to the COVID-19 pandemic, the Commission conducted its hearing through video conference on May 11, 2021. All persons who requested the opportunity were permitted to participate.

¹ 86 FR 13585, March 9, 2021.

² 86 FR 12627, March 4, 2021.

The Commission subsequently issued its final determination that an industry in the United States was materially injured by reason of imports of methionine provided for in subheadings 2930.40.00 and 2930.90.46 of the Harmonized Tariff Schedule of the United States (“HTSUS”) from France that have been found by Commerce to be sold in the United States at LTFV.³

³ 86 FR 35826, July 7, 2021.

Commerce has issued final affirmative antidumping duty determinations with respect to methionine from Japan and Spain.⁴ Accordingly, the Commission currently is issuing a supplemental schedule for its antidumping duty investigations on imports of methionine from Japan and Spain.

⁴ 86 FR 38983 and 86 FR 38985, July 23, 2021. The Commission investigations became staggered when Commerce postponed its final determinations regarding LTFV imports of methionine from Japan and Spain.

This supplemental schedule is as follows: The deadline for filing supplemental party comments on Commerce's final antidumping duty determinations is August 6, 2021. Supplemental party comments may address only Commerce's final antidumping duty determinations regarding imports of methionine from Japan and Spain. These supplemental final comments may not contain new factual information and may not exceed five (5) pages in length. The supplemental staff report in the final phase of these investigations regarding subject imports from Japan and Spain will be placed in the nonpublic record on August 17, 2021; a public version will be issued thereafter.

For further information concerning these investigations see the Commission's notice cited above and the Commission's Rules of Practice and Procedure, part 201, subparts A and B (19 CFR part 201), and part 207, subparts A and C (19 CFR part 207).

Please note the Secretary's Office will accept only electronic filings during this time. Filings must be made through the Commission's Electronic Document Information System (EDIS, https://edis.usitc.gov.) No in-person paper-based filings or paper copies of any electronic filings will be accepted until further notice.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: These investigations are being conducted under authority of title VII of the Tariff Act of 1930; this notice is published pursuant to section 207.21 of the Commission's rules.

By order of the Commission.
Issued: July 27, 2021.
Lisa Barton,
Secretary to the Commission.

[FR Doc. 2021-16375 Filed 7-30-21; 8:45 am]

BILLING CODE 7020-02-P